DEPARTMENT OF THE INTERIOR

National Park Service

[NPS-NERO-CHHO-34434; PPNCCHOHS0-PPMPSPD1Z.YM0000]

Chesapeake and Ohio Canal National Historical Park Commission Request for Nominations

AGENCY: National Park Service, Interior.

ACTION: Request for nominations.

SUMMARY: The National Park Service, U.S. Department of the Interior, is requesting nominations for qualified persons to serve as members of the Chesapeake and Ohio Canal National Historical Park Commission (Commission).

DATES: Written nominations must be received by December 13, 2022.

ADDRESSES: Send nominations to: Mackensie Henn, Assistant to the Superintendent, Chesapeake and Ohio Canal National Historical Park, 142 W Potomac Street, Williamsport, Maryland 21795, or by email choh_information@nps.gov.

FOR FURTHER INFORMATION CONTACT: Mackensie Henn, by email choh_information@nps.gov or telephone at (240) 520-3135.

SUPPLEMENTARY INFORMATION: The Commission was established by section 6 of the Chesapeake and Ohio Canal Development Act (16 U.S.C. 410y-4) and terminated January 8, 2011. The Commission has been extended by Public Law 113-178 and the new termination date is September 26, 2024. The purpose of the Commission is to meet and consult with the Secretary of the Interior (Secretary), or the Secretary's designee, on general policies and specific matters related to the administration and development of the Chesapeake and Ohio Canal National Historical Park.

The Commission shall be composed of 19 members appointed by the Secretary for 5-year terms as follows: (1) Eight members to be appointed from recommendations submitted by the boards of commissioners or the county councils, as the case may be, of Montgomery, Frederick, Washington, and Allegany Counties, Maryland, of which two members shall be appointed from recommendations submitted by each such board or council, as the case may be; (2) Eight members to be appointed from recommendations submitted by the Governor of the State of Maryland, the Governor of the State of West Virginia, the Governor of the Commonwealth of Virginia, and the Mayor of the District of Columbia, of which two members shall be appointed from recommendations submitted by each such Governor or Mayor, as the case may be; and (3) Three members to be appointed by the Secretary, one of whom shall be designated Chair of the Commission and two of who shall be members of regularly constituted conservation organizations.

We are currently seeking members to represent all categories. The Chair will be appointed as a special Government employee (SGE). Please be aware that the individual selected to serve as the Chair will be required, prior to appointment, to file a Confidential Financial Disclosure Report in order to avoid involvement in real or apparent conflicts of interest. You may find a copy of the Confidential Financial Disclosure Report at the following website: https://www.doi.gov/ethics/special-government-employees/financial-disclosure. Additionally, after appointment, the Chair will be required to meet applicable financial disclosure and ethics training requirements. Please contact the Departmental Ethics Office at (202) 208-7960 or DOI_Ethics@sol.doi.gov with any questions about the SGE ethics requirements.

Nominations should be typed and should include a resume providing an adequate description of the nominee's qualifications, including information that would enable the Department of the Interior to make an informed decision regarding meeting the membership requirements of the Commission and permit the Department to contact a potential member. All documentation, including letters of recommendation, must be compiled and submitted in one complete package. All those interested in membership, including current members whose terms are expiring, must follow the same nomination process. Members may not appoint deputies or alternates.

Members of the Commission serve without compensation. However, while away from their homes or regular places of business in the performance of services for the Commission as approved by the NPS, members may be allowed travel expenses, including per diem in lieu of subsistence, in the same manner as persons employed intermittently in Government service are allowed such expenses under section 5703 of title 5 of the United States Code.

(Authority: 16 U.S.C. 410y-4, as amended.)

Alma Ripps,
Chief, Office of Policy.

[FR Doc. 2022-22293 Filed 10-13-22; 8:45 am]

BILLING CODE 4312-52-P